DEPARTMENT OF AGRICULTURE

Rural Business-Cooperative Service

Notice of Public Teleconference on the Rural Cooperative Development Grant Program

AGENCY: Rural Business-Cooperative Service, USDA.

ACTION: Notice of public teleconference.

SUMMARY: This notice is issued to inform non-profit entities interested in applying for the 2005 Rural Cooperative Development Grant Program that two teleconferences will be held to discuss the 2005 Notice of Solicitation of Applications.

DATES: The public teleconferences will be held on May 31 and June 2, starting at 1 p.m. eastern time. They will end by 4 p.m. unless concluded earlier. Interested entities must register by May 26.

ADDRESSES: Entities must register by submitting an e-mail or sending a letter to: Roberta D. Purcell, Deputy Administrator, Cooperative Programs, Rural Business-Cooperative Service, Room 4016-S, Stop 3250, 1400 Independence Avenue, SW., Washington, DC 20250-3250, cpgrants@usda.gov.

FOR FURTHER INFORMATION CONTACT: Roberta D. Purcell, Deputy Administrator, Cooperative Programs, Rural Business-Cooperative Service, Room 4016-S, Stop 3250, 1400 Independence Avenue, SW., Washington, DC 20250-3250, cpgrants@usda.gov, telephone: (202) 720-7558.

SUPPLEMENTARY INFORMATION: The teleconference will be conducted by representatives of the Department of Agriculture. The purpose of the teleconference is to discuss the Rural Cooperative Development Grant Notice of Solicitation of Applications published in the Federal Register on May 13, 2005 and to answer questions from interested applicants. Entities must register at the address listed above by May 26 in order to reserve a line and to obtain the teleconference number and pass code.

Dated: May 18, 2005.
Peter J. Thomas,
Administrator, Rural Business-Cooperative Service.

[FR Doc. 05-10286 Filed 5-23-05; 8:45 am]

BILLING CODE 3410-XY-P